DEPARTMENT OF HOMELAND SECURITY

Federal Emergency Management Agency

[Docket ID FEMA-2012-0003; Internal Agency Docket No. FEMA-B-1267]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before December 20, 2012.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1267 to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at www.fema.gov/pdf/media/factsheets/2010/srp_fs.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Tuscaloosa County, Alabama, and Incorporated Areas
Maps Available for Inspection Online at: http://www.adeca.alabama.gov/Divisions/owr/floodplain/Pages/County-Status.aspx
City of Northport | City Hall, 3500 McFarland Boulevard, Northport, AL 35476.
City of Tuscaloosa | City Hall, 2201 University Boulevard, Tuscaloosa, AL 35401.
Town of Brookwood | Town Hall, 15689 Highway 216, Brookwood, AL 35444.
Town of Coaling | Town Hall, 11281 Stephens Loop Road, Coaling, AL 35449.
Town of Coker | Town Hall, 11549 Eisenhower Drive, Coker, AL 35452.
Town of Lake View | Town Hall, 21289 Phyllis Drive, Lake View, AL 35111.
Town of Moundville | Town Hall, 410 Market Street, Moundville, AL 35474.
Town of Vance | Town Hall, 18336 Highway 11 North, Vance, AL 35490.
Town of Woodstock | Town Hall, 28513 Highway 5, Woodstock, AL 35188.
Unincorporated Areas of Tuscaloosa County | Tuscaloosa County Public Works Department, 2810 35th Street, Tuscaloosa, AL 35401.
Franklin County, Florida, and Incorporated Areas
Maps Available for Inspection Online at: http://portal.nwfwmdfloodmaps.com
City of Apalachicola | City Hall, 1 Bay Avenue, Apalachicola, FL 32320.
City of Carrabelle | City Hall, 1001 Gray Avenue, Carrabelle, FL 32322.
Unincorporated Areas of Franklin County | Franklin County Planning and Building Department, 34 Forbes Street, Suite 1, Apalachicola, FL 32320.
Hillsborough County, Florida, and Incorporated Areas
Maps Available for Inspection Online at: http://www.bakeraecom.com/index.php/florida/hillsborough
Unincorporated Areas of Hillsborough County | Hillsborough County Department of Planning and Growth Management, 5701 East Hillsborough Avenue, Suite 1140, Tampa, FL 33610.
Jefferson County, Florida, and Incorporated Areas
Maps Available for Inspection Online at: http://portal.nwfwmdfloodmaps.com
City of Monticello | City Hall, 245 South Mulberry Street, Monticello, FL 32344.
Unincorporated Areas of Jefferson County | Jefferson County Courthouse, 1 Courthouse Circle, Monticello, FL 32344.
Wakulla County, Florida, and Incorporated Areas
Maps Available for Inspection Online at: http://portal.nwfwmdfloodmaps.com
City of Sopchoppy | City Hall, 105 Municipal Avenue, Sopchoppy, FL 32358.
City of St. Marks | City Hall, 788 Port Leon Drive, Saint Marks, FL 32355.
Unincorporated Areas of Wakulla County | Wakulla County Planning and Zoning Department, 3095 Crawfordville Highway, Crawfordville, FL 32327.
Champaign County, Illinois, and Incorporated Areas
Maps Available for Inspection Online at: http://www.starr-team.com/starr/RegionalWorkspaces/RegionV/ChampaignIL
City of Champaign | City Hall, 102 North Neil Street, Champaign, IL 61820.
City of Urbana | City Hall, 400 South Vine Street, Urbana, IL 61801.
Unincorporated Areas of Champaign County | Champaign County Administrative Building, 1776 East Washington Street, Urbana, IL 61802.
Village of Bondville | Village Hall, 102 South Walnut Street, Bondville, IL 61815.
Village of Broadlands | Village Hall, 107 Lincoln Street, Broadlands, IL 61816.
Village of Fisher | Village Office, 100 East School Street, Fisher, IL 61843.
Village of Ivesdale | Village Hall, 406 Third Street, Ivesdale, IL.
Village of Mahomet | Administrative Offices, 503 East Main Street, Mahomet, IL 61853.
Village of Rantoul | Village Hall, 333 South Tanner Street, Rantoul, IL 61866.
Village of Royal | Village Hall, 101 West Main Street, Royal, IL 61871.
Village of Sadorus | Village Hall, 115 West Market Street, Sadorus, IL 61872.
Village of Sidney | Village Hall, 221 South David Street, Sidney, IL 61877.
Village of St. Joseph | Village Hall, 207 East Lincoln Street, St. Joseph, IL 61873.
Macomb County, Michigan (All Jurisdictions)
Maps Available for Inspection Online at: http://www.starr-team.com/starr/RegionalWorkspaces/RegionV/ShelbyPMR/SitePages/Home.aspx
Charter Township of Shelby | Building Department, 52700 Van Dyke Avenue, Shelby Township, MI 48316.
Township of Macomb | Town Hall, 54111 Broughton Road, Macomb, MI 48042.
Township of Washington | Township Office, 57900 Van Dyke Avenue, Washington, MI 48094.
Jefferson County, New York (All Jurisdictions)
Maps Available for Inspection Online at: www.rampp-team.com/ny.htm
Town of LeRay | LeRay Municipal Offices, 8650 LeRay Street, Evans Mills, NY 13637.
Village of Black River | Village Office, 107 Jefferson Place, Black River, NY 13612.
Weber County, Utah, and Incorporated Areas
Maps Available for Inspection Online at: http://www.bakeraecom.com/index.php/utah/weber-county/
City of Ogden | City Hall, 2549 Washington Boulevard, Ogden, UT 84401.

(Catalog of Federal Domestic Assistance No. 97.022, “Flood Insurance.”)

Dated: September 3, 2012.
Sandra K. Knight,
Deputy Associate Administrator for Mitigation, Department of Homeland Security, Federal Emergency Management Agency.

[FR Doc. 2012-23361 Filed 9-20-12; 8:45 am]

BILLING CODE 9110-12-P